DEPARTMENT OF TRANSPORTATION

Federal Aviation Administration

14 CFR Part 39

[Docket No. FAA-2008-0039; Directorate Identifier 2006-SW-13-AD]

RIN 2120-AA64

Airworthiness Directives; Bell Helicopter Textron Canada Model 222, 222B, 222U, 230 and 430 Helicopters

AGENCY: Federal Aviation Administration, DOT.

ACTION: Notice of proposed rulemaking (NPRM).

SUMMARY: This document proposes adopting a new airworthiness directive (AD) for Bell Helicopter Textron Canada (BHTC) Model 222, 222B, 222U, 230 and 430 helicopters. This proposal would require rewiring and testing the fuel valve switch on each engine and testing the ignitor system. This proposal is prompted by an in-flight incident in which a fuel valve switch failed, causing the fuel valve to inadvertently close. The actions specified by this proposed AD are intended to prevent interruption of the fuel supply caused by failure of the fuel switch, which could result in loss of engine power and subsequent loss of control of the helicopter.

DATES: Comments must be received on or before March 24, 2008.

ADDRESSES: Use one of the following addresses to submit comments on this proposed AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from Bell Helicopter Textron Canada, 12,800 Rue de l'Avenir, Mirabel, Quebec J7J1R4, telephone (450) 437-2862 or (800) 363-8023, fax (450) 433-0272.

You may examine the comments to this proposed AD in the AD docket on the Internet at http://www.regulations.gov.

FOR FURTHER INFORMATION CONTACT: Carroll Wright, Aviation Safety Engineer, FAA, Rotorcraft Directorate, Regulations and Policy Group, Fort Worth, Texas 76193-0110, telephone (817) 222-5120, fax (817) 222-5961.

SUPPLEMENTARY INFORMATION:

Comments Invited

We invite you to submit any written data, views, or arguments regarding this proposed AD. Send your comments to the address listed under the caption ADDRESSES. Include the docket number “FAA-2008-0039, Directorate Identifier 2006-SW-13-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact with FAA personnel concerning this proposed rulemaking. Using the search function of our docket web site, you can find and read the comments to any of our dockets, including the name of the individual who sent or signed the comment. You may review the DOT's complete Privacy Act Statement in the Federal Register published on April 11, 2000 (65 FR 19477-78), or you may visit http://www.regulations.gov.

Examining the Docket

You may examine the docket that contains the proposed AD, any comments, and other information in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

Discussion

This document proposes adopting a new AD for the following BHTC helicopters:

Model No. | Serial Nos.
222 | 47006 through 47089.
222B | 47131 through 47156.
222U | 47501 through 47574.
230 | 23001 through 23038.
430 | 49001 through 49101.

This proposal would require, within 50 hours time-in-service (TIS), rewiring the switches that control the operation of the No. 1 and No. 2 engines' fuel valves, and testing the switches and the ignitor system. This proposal is prompted by an in-flight incident in which a fuel valve switch failed. The manufacturer reports that there is a possibility that a switch may fail during flight due to vibration, causing the switch to open and then causing the fuel valve to close, resulting in inadvertent shut down of an engine. The actions specified by this proposed AD are intended to prevent interruption of the fuel supply caused by failure of the fuel switch, which could result in loss of engine power and subsequent loss of control of the helicopter.

Transport Canada, the airworthiness authority for Canada, notified the FAA that an unsafe condition may exist on BHTC Model 222, 222B, 222U, 230 and 430 helicopters. Transport Canada advises of an investigation into an incident involving a BHTC Model 222 helicopter, in which the fuel shut-off switch, part number (P/N) 10648BH1-1, failed during flight causing the fuel valve to close and the engine to shut down. Review of the Service Difficulty Report database identified two other incidents of switch failure.

Bell Helicopter Textron has issued the following technical bulletins, all dated June 11, 2003, which specify rewiring the fuel valve switch:

Technical bulletin | Helicopter models affected
No. 222-03-171 | Model 222 and 222B helicopters.
No. 222U-03-96 | Model 222U helicopters.
No. 230-03-35 | Model 230 helicopters.
No. 430-03-33 | Model 430 helicopters.

Transport Canada classified these technical bulletins as mandatory and issued AD No. CF-2006-03, dated February 28, 2006, to ensure the continued airworthiness of these helicopters in Canada. That AD requires compliance no later than May 3, 2006. This proposal would require compliance within 50 hours TIS.

This helicopter model is manufactured in Canada and is type certificated for operation in the United States under the provisions of 14 CFR 21.29 and the applicable bilateral agreement. Pursuant to the applicable bilateral agreement, Transport Canada has kept us informed of the situation described above. We have examined the findings of Transport Canada, reviewed all available information, and determined that AD action is necessary for products of these type designs that are certificated for operation in the United States.

This previously described unsafe condition is likely to exist or develop on other helicopters of these same type designs registered in the United States. Therefore, the proposed AD would require, within 50 hours TIS, rewiring the switches, P/N 10648BH1-1, located in the cockpit overhead console, that control the operation of the No. 1 and No. 2 engines' fuel valves. The actions would be required to be accomplished by following the specified portions of the technical bulletins described previously.

We estimate that this proposed AD would affect 165 helicopters of U.S. registry and the proposed actions would take approximately four work hours per helicopter to rewire the 2 fuel valve switches, and test those switches and the ignitor system at an average labor rate of $80 per work hour. Based on these figures, we estimate the total cost impact of the proposed AD on U.S. operators to be $52,800 ($320 per helicopter).

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the AD docket to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Bell Helicopter Textron Canada: Docket No. FAA-2008-0039; Directorate Identifier 2006-SW-13-AD.

Applicability: The following model helicopters, certificated in any category:

Model No. | Serial Nos.
222 | 47006 through 47089.
222B | 47131 through 47156.
222U | 47501 through 47574.
230 | 23001 through 23038.
430 | 49001 through 49101.

Compliance: Required within 50 hours time-in-service, unless accomplished previously.

To prevent interruption of the fuel supply caused by failure of the fuel switch, which could result in loss of engine power and subsequent loss of control of the helicopter, accomplish the following:

(a) Rewire the No. 1 and No. 2 engines' fuel valve switch, part number 10648BH1-1, and test the fuel valve switches and the ignitor system, in accordance with the Accomplishment Instructions in Bell Helicopter Textron Technical Bulletin (TB) No. 222-03-171, Part 1, applicable to Model 222 helicopters, serial number (S/N) 47006-47038, and Part 2, applicable to Model 222 helicopters, S/N 47039-47089, and Model 222B helicopters, S/N 47131-47156; TB No. 222U-03-96, applicable to Model 222U helicopters; TB No. 230-03-35, applicable to Model 230 helicopters; and TB No. 430-03-33, applicable to Model 430 helicopters. All of the technical bulletins are dated June 11, 2003.

(b) To request a different method of compliance or a different compliance time for this AD, follow the procedures in 14 CFR 39.19. Contact the Manager, Regulations and Policy Group, FAA, ATTN: Carroll Wright, 2601 Meacham Blvd., Fort Worth, Texas 76193-0110, telephone (817) 222-5120, fax (817) 222-5961, for information about previously approved alternative methods of compliance.

Note: The subject of this AD is addressed in Transport Canada (Canada) AD CF-2006-03, dated February 28, 2006.

Issued in Fort Worth, Texas, on January 8, 2008.
Mark R. Schilling,
Acting Manager, Rotorcraft Directorate, Aircraft Certification Service.

[FR Doc. E8-1026 Filed 1-22-08; 8:45 am]

BILLING CODE 4910-13-P